DEPARTMENT OF COMMERCE

International Trade Administration

[A-122-822 and A-122-823]

Certain Corrosion-Resistant Carbon Steel Flat Products and Certain Cut-to-Length Carbon Steel Plate From Canada: Extension of Time Limit for Preliminary Results of Antidumping Duty Administrative Review

AGENCY: Import Administration, International Trade Administration, Department of Commerce.

ACTION: Notice of Extension of Time Limits For Preliminary Results of Antidumping Duty Administrative Reviews.

EFFECTIVE DATE: June 28, 2000.

FOR FURTHER INFORMATION CONTACT: Mike Strollo, AD/CVD Enforcement, Import Administration, International Trade Administration, U.S. Department of Commerce, 14th Street and Constitution Avenue, N.W., Washington D.C. 20230; telephone: (202) 482-5255.

The Applicable Statute

Unless otherwise indicated, all citations to the statute are references to the provisions effective January 1, 1995, the effective date of the amendments made to the Tariff Act of 1930 (the Act) by the Uruguay Round Agreements Act. In addition, unless otherwise indicated, all citations to the Department's regulations are to the current regulations, codified at 19 CFR Part 351 (1999).

Background

On August 19, 1993, the Department published in the Federal Register (58 FR 44162) the antidumping duty orders on certain corrosion-resistant carbon steel flat products and certain cut-to-length carbon steel plate from Canada. The Department initiated these reviews for Stelco, Inc., Dofasco, Inc., Sorevco, Inc., Continuous Colour Coat, Ltd., and National Steel Corp., (corrosion-resistant) and Clayson Steel Inc., Metaux Russel Inc. and Stelco, Inc. (cut-to-length) on October 1, 1999 (64 FR 53318).¹ We initiated a review of Gerdau MRM Steel (cut-to-length) on November 4, 1999 (64 FR 60161).² These reviews cover the period of August 1, 1998 through July 31, 1999. On April 27, 2000, the Department published an extension of these preliminary results of review until July 21, 2000 (65 FR 24678).

¹ Petitioners withdrew their request for a review of Stelco under both orders. Stelco did not request that its sales be reviewed. National withdrew its request to be reviewed. Petitioners did not request that National be reviewed.

² We inadvertently failed to include Gerdau MRM Steel in our October 1, 1999 notice.

Extension of Time Limits for Preliminary Results

For the reasons described in the Memorandum from Edward C. Yang to Joseph A. Spetrini, Extension of Time Limit for the Final Results of Antidumping Duty Administrative Reviews of Certain Corrosion-Resistant Carbon Steel Flat Products and Certain Cut-to-Length Carbon Steel Plate From Canada, dated June 22, 2000, it is not practical to complete these reviews within the time limits mandated by section 751(a)(3)(A) of the Act.

Therefore, in accordance with section 751(a)(3)(A) of the Act, the Department is extending the time period for issuing the preliminary results of review until August 30, 2000.

Dated: June 22, 2000.
Robert M. James,
Acting Deputy Assistant Secretary, AD/CVD Enforcement Group III.

[FR Doc. 00-16374 Filed 6-27-00; 8:45 am]

BILLING CODE 3510-DS-P